DEPARTMENT OF HOUSING AND URBAN DEVELOPMENT

[Docket No. FR-5074-N-02]

Notice of Regulatory Waiver Requests Granted for the Second Quarter of Calendar Year 2006

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2006, and ending on June 30, 2006.

FOR FURTHER INFORMATION CONTACT: For general information about this notice, contact Aaron Santa Anna, Assistant General Counsel for Regulations, Department of Housing and Urban Development, 451 Seventh Street, SW., Room 10276,Washington, DC 20410-0500, telephone (202) 708-3055 (this is not a toll-free number). Persons with hearing- or speech-impairments may access this number through TTY by calling the toll-free Federal Information Relay Service at (800) 877-8339.

For information concerning a particular waiver that was granted and for which public notice is provided in this document, contact the person whose name and address follow the description of the waiver granted in the accompanying list of waivers that have been granted in the second quarter of calendar year 2006.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2006, through June 30, 2006. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2006) before the next report is published (the third quarter of calendar year 2006), HUD will include any additional waivers granted for the second quarter in the next report.

Accordingly, information about approved waiver requests pertaining to HUD regulations is provided in the Appendix that follows this notice.

Dated: October 6, 2006.
Keith E. Gottfried,
General Counsel.

Appendix—Listing of Waivers of Regulatory Requirements Granted by Offices of the Department of Housing and Urban Development April 1, 2006, Through June 30, 2006

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The City of Fort Scott, KS requested a waiver of § 58.22(a), limitations on activities pending clearance, of the Environmental Review regulations for entities assuming HUD environmental responsibilities (24 CFR part 58) to enable the city to receive reimbursement for the funds it spends on property acquisition, demolition, debris removal, building stabilization and infrastructure repair to protect public health and safety after a fire destroyed and damaged historic buildings in the central business district in Fort Scott, Kansas.

Nature of Requirement: Section 58.22(a) of HUD's environmental review regulations prohibits recipients and any participant in the development process from committing HUD or non-HUD funds on an activity or project under a program listed in § 58.1(b) if the activity or project would have an adverse environmental impact or limit the choice of reasonable alternatives, until HUD has approved the request for release of funds.

Granted By: Pamela H. Patenaude, Assistant Secretary for Community Planning and Development.

Date Granted: May 12, 2006.

Reasons Waived: The City of Fort Scott used non-HUD funds for acquisition, demolition, debris removal, building stabilization and infrastructure repair, after an application or HUD assistance was made to the State of Kansas and prior to an approved request for release of funds. A fire destroyed and damaged historic buildings in the central business district of Fort Scott, creating a threat to public health and safety that the city needed to address immediately. HUD determined that there was good cause to grant this waiver and the project has not resulted in an adverse environmental impact, nor is any unmitigated adverse impact foreseen to occur.

Contact: Danielle Schopp, Office of Community Planning and Development, Department of Housing and Urban Development, 451 Seventh Street, SW., Washington, DC 20410-7000, telephone (202) 708-1201.

• Regulation: 24 CFR 58.22(a).

Project/Activity: The State of Connecticut's Department of Economic and Community Development and the City of Hartford, CT requested a waiver of § 58.22(a), limitations on activities pending clearance, of HUD's environmental review regulations for entities assuming HUD environmental responsibilities (24 CFR part 58) for the Zion Street Mutual Housing Project in Hartford, Connecticut. Zion Street Mutual Housing Project intended to use HOME funds for demolition and new construction of twenty-four units of housing for low to moderate income families.

Nature of Requirement: Section 58.22(a) of HUD's environmental review regulations prohibits recipients and any participant in the development process from committing HUD or non-HUD funds on an activity or project under a program listed in § 58.1(b) if the activity or project would have an adverse environmental impact or limit the choice of reasonable alternatives, until HUD has approved the request for release of funds.

Granted By: Pamela H. Patenaude, Assistant Secretary for Community Planning and Development.

Date Granted: May 1, 2006.

Reasons Waived: Mutual Housing Association of Greater Hartford, Inc. (MHAGH) used non-HUD funds to acquire properties, demolish the existing structures, and construct the new housing units, after an application for HUD assistance was made and prior to an approved request for release of funds. MHAGH acquired the property and executed a construction contract because the low-income housing tax credits for the project set strict construction time frames and the structures on the site were in an unsafe condition necessitating immediate action to demolish. HUD determined that there was good cause to grant this waiver and the project has not resulted in an adverse environmental impact, nor is any unmitigated adverse impact foreseen to occur.

Contact: Danielle Schopp, Office of Community Planning and Development, Department of Housing and Urban Development, 451 Seventh Street, SW., Washington, DC 20410-7000, telephone (202) 708-1201.

• Regulation: 24 CFR 58.22(a).

Project/Activity: The City of Salem, OR requested a waiver of § 58.22(a), limitations on activities pending clearance, of HUD's environmental review regulations for entities assuming HUD environmental responsibilities (24 CFR part 58) to enable the city to use Special Purpose Economic Development Initiative (EDI) grants for reimbursement for public improvements in and around the Conference Center in Salem, Oregon.

Nature of Requirement: Section 58.22(a) of HUD's environmental review regulations prohibits recipients and any participant in the development process from committing HUD or non-HUD funds on an activity or project under a program listed in § 58.1(b) if the activity or project would have an adverse environmental impact or limit the choice of reasonable alternatives, until HUD has approved the request for release of funds.

Granted By: Pamela H. Patenaude, Assistant Secretary for Community Planning and Development.

Date Granted: June 9, 2006.

Reasons Waived: The City of Salem, OR applied for Section 108 Loan Guarantee Funds to construct a conference center. After application for Section 108 Loan Guarantee Funds, the city committed non-HUD funds by executing a construction contract for the Conference Center prior to obtaining an approved request for release of funds for the Section 108 funds. HUD approved the request for release of funds for the Section 108 funds and subsequently, Special Purpose EDI grants were awarded to the project. A waiver was required to allow the city to use Special Purpose EDI funds to reimburse itself for public improvements in and around the conference center because the city committed non-HUD funds to the project before receiving an approved request for release of funds. The city has made changes to their environmental process to ensure that a similar violation will not occur. HUD determined that there was good cause to grant this waiver and the project has not resulted in an adverse environmental impact, nor is any unmitigated adverse impact foreseen to occur.

Contact: Danielle Schopp, Office of Community Planning and Development, Department of Housing and Urban Development, 451 Seventh Street, SW., Washington, DC 20410-7000, telephone (202) 708-1201.

• Regulation: 24 CFR 58.22(a).

Project/Activity: El Lucha Contra el Sida, Puerto Rico requested a waiver of § 58.22(a), limitations on activities pending clearance, of the environmental review regulations for entities assuming HUD environmental responsibilities (24 CFR part 58) for the El Remanso de Paz project in Ponce, Puerto Rico. El Remanso de Paz is a supportive housing project that will provide housing and supportive services for chronically homeless individuals with disabilities.

Nature of Requirement: Section 58.22(a) of HUD's environmental review regulations prohibits recipients and any participant in the development process from committing HUD or non-HUD funds on an activity or project under a program listed in § 58.1(b) if the activity or project would have an adverse environmental impact or limit the choice of reasonable alternatives, until HUD has approved the request for release of funds.

Granted By: Pamela H. Patenaude, Assistant Secretary for Community Planning and Development.

Date Granted: April 10, 2006.

Reasons Waived: The recipient used non-HUD funds to acquire the property site for a supportive housing project, after an application for HUD assistance was made and prior to a properly approved request for release of funds. The recipient acquired this property prior to an approved request for release of funds because the recipient needed to obtain a new project site to retain the low-income housing tax credits that are critical to the project's development and the recipient was unable to extend an option to buy the property. HUD determined that there was good cause to grant this waiver and the project has not resulted in an adverse environmental impact, nor is any unmitigated adverse impact foreseen to occur.

Contact: Danielle Schopp, Office of Community Planning and Development, Department of Housing and Urban Development, 451 Seventh Street, SW., Washington, DC 20410-7000, telephone (202) 708-1201.

• Regulation: 24 CFR 92.214(a)(6).

Project/Activity: Hennepin County Consortium, Minnesota requested a waiver to allow it to invest an additional $500,000 from a HUD Notice of Funding Availability (NOFA) reallocation of recaptured community housing development organization (CHDO) set-aside funds into the Louisiana Court Apartments project. The project was troubled and at risk of foreclosure.

Nature of Requirement: Section 92.214(a)(6) states that, except for the 12 months following project completion, additional HOME assistance may not be provided to a previously-assisted HOME project during the period of affordability.

Granted By: Pamela H. Patenaude, Assistant Secretary for Community Planning and Development.

Date Granted: June 6, 2006.

Reason Waived: This waiver allowed for the reinvestment of additional funds to help stabilize nine HOME-assisted units for the remainder of their period of affordability and will result in six additional HOME units with a 15-year period of affordability. Also, by stabilizing this project, it was determined that the reinvestment of HOME funds will help preserve affordable housing and provide additional HOME-assisted units for the chronically homeless in Minnesota.

Contact: Virginia Sardone, Office of Community Planning and Development, Department of Housing and Urban Development, 451 Seventh Street, SW., Washington DC 20410-7000, telephone (202) 708-2470.

• Regulations: 24 CFR 92.251(a)(1).

Project/Activity: The State of Missouri requested a waiver of this regulation to facilitate the recovery of Missouri counties from the devastation caused by the severe storms, tornados and flooding of March and April 2006. The waiver was requested for those counties located within declared disaster areas pursuant to Title IV of the Robert T. Stafford Disaster Relief and Emergency Assistance Act.

Nature of Requirement: Section 92.251(a)(1) requires that housing assisted with HOME funds must meet specific property and rehabilitation standards.

Granted By: Pamela H. Patenaude, Assistant Secretary for Community Planning and Development.

Date Granted: May 15, 2006.

Reasons Waived: This waiver was determined necessary to facilitate the recovery of Missouri counties from the devastation caused by the severe storms, tornados and flooding of March and April 2006. The waiver allowed counties in the declared disaster areas to make emergency repairs to storm-damaged, owner-occupied units and return these units to habitability more quickly, and helped these counties meet the critical housing needs of families whose homes were damaged and increase the number of assisted households.

Contact: Virginia Sardone, Office of Community Planning and Development, Department of Housing and Urban Development, 451 Seventh Street, SW., Washington DC 20410-7000, telephone (202) 708-2470.

• Regulations: 24 CFR 92.300(a)(1) and 24 CFR 92.500(d)(1)(B).

Project/Activity: The City of New Orleans, LA requested waivers to facilitate its recovery from the devastation caused by Hurricanes Katrina and Rita. The city is located within a declared disaster area pursuant to Title IV of the Robert T. Stafford Disaster Relief and Emergency Assistance Act. The city requested these waivers in addition to the waivers granted by HUD on September 14, 2005 (Hurricane Katrina) and October 4, 2005 (Hurricane Rita) for the designated disaster areas.

Nature of Requirement: Section 92.300(a)(1) requires that a PJ reserve not less than 15 percent of each annual allocation for housing owned, sponsored or developed by (CHDOs) within 24 months after HUD notifies the PJ that HUD has executed the jurisdiction's HOME Investment Partnership Agreement. Section 92.500(d)(1)(B) requires that a PJ commit its annual allocation of HOME funds within 24 months after HUD notifies the PJ that HUD has executed the jurisdiction's HOME Investment Partnership Agreement.

Granted By: Pamela H. Patenaude, Assistant Secretary for Community Planning and Development.

Date Granted: May 15, 2006.

Reasons Waived: These waivers were determined necessary to facilitate the recovery of the City of New Orleans from the devastation caused by Hurricane Katrina and Hurricane Rita by waiving the 2004 and 2007 CHDO reservation requirements, and waiving the FY 2004, FY 2005, FY 2006 and FY 2007 HOME commitment requirement. These waivers will ensure that needed HOME funds are not deobligated. The City has flexibility to address the rebuilding of its devastated areas and it was determined that the City had an adequate timeframe to rebuild its CHDO capacity. It was also determined that the City has sufficient flexibility and time to assess, redesign, and implement its housing programs and delivery systems.

Contact: Virginia Sardone, Office of Community Planning and Development, Department of Housing and Urban Development, 451 Seventh Street, SW., Washington DC 20410-7000, telephone (202) 708-2470.

• Regulations: 24 CFR 92.500(d)(1)(A) and 24 CFR 92.500(d)(1)(B).

Project/Activity: The Gulfport Consortium requested waivers of these regulations to facilitate its recovery from the devastation caused by Hurricanes Katrina. The Consortium is located within a declared disaster area pursuant to Title IV of the Robert T. Stafford Disaster Relief and Emergency Assistance Act. The Consortium requested these waivers in addition to the waivers granted by HUD on September 14, 2005, for the designated disaster areas.

Nature of Requirement: Section 92.500(d)(1)(A) of HUD's regulations requires HUD to reduce or recapture any HOME funds that are required to be reserved by a participating lower jurisdiction (PJ) under § 92.300(a)(1) that are not reserved for a community housing development organization pursuant to a written agreement within 24 months after the last day of the month in which HUD notifies the PJ of HUD's execution of the HOME Investment Partnership Agreement. Section 92.500(d)(1)(B) of HUD's regulations requires that a PJ commit its annual allocation of HOME funds within 24 months after HUD notifies the PJ that HUD has executed the jurisdiction's HOME Investment Partnership Agreement. HUD's September 14, 2005, hurricane disaster relief waivers do not address this commitment requirement.

Granted By: Pamela H. Patenaude, Assistant Secretary for Community Planning and Development.

Date Granted: April 13, 2006.

Reasons Waived: As a result of the devastating effects of Hurricane Katrina on August 29, 2005, the Consortium temporarily suspended all HOME programs and projects. The hurricane caused widespread damage in the Gulf Coast Region. These waivers were determined necessary to facilitate the recovery of the City of New Orleans from the devastation caused by Hurricane Katrina by suspending the 2004 Community Housing Development Organization (CHDO) reservation requirements and commitment requirements will ensure that much needed HOME funds will not be deobligated. The Consortium advised of its commitment to reinstate all of its HOME programs and projects within 90 days following the granting of the waivers.

Contact: Virginia Sardone, Office of Community Planning and Development, Department of Housing and Urban Development, 451 Seventh Street, SW., Washington DC 20410-7000, telephone (202) 708-2470.

• Regulations: 24 CFR 92.500(d)(1)(B).

Project/Activity: The City of Alexandria, LA requested a waiver to facilitate its recovery from the devastation caused by Hurricanes Katrina and Rita. The city is located within a declared disaster area pursuant to Title IV of the Robert T. Stafford Disaster Relief and Emergency Assistance Act. The city requested this waiver in addition to the waivers granted by HUD on September 14, 2005 (Hurricane Katrina) and October 4, 2005 (Hurricane Rita) for the designated disaster areas.

Nature of Requirement: Section 92.500(d)(1)(B) requires that a PJ commit its annual allocation of HOME funds within 24 months after HUD notifies the PJ that HUD has executed the jurisdiction's HOME Investment Partnership Agreement.

Granted By: Pamela H. Patenaude, Assistant Secretary for Community Planning and Development.

Date Granted: June 9, 2006.

Reasons Waived: It was determined that this waiver would facilitate the recovery of the City of Alexandria from the devastation caused by Hurricane Katrina and Hurricane Rita by waiving the FY 2004 and FY 2005 HOME commitment requirement. The waiver would help ensure that needed HOME funds are not deobligated while the city is seeking solutions to its difficulties.

Contact: Virginia Sardone, Office of Community Planning and Development, Department of Housing and Urban Development, 451 Seventh Street, SW., Washington DC 20410-7000, telephone (202) 708-2470.

• Regulation: 24 CFR 92.503(b).

Project/Activity: The Minnesota Housing Finance Agency requested a waiver that would allow them to substitute a comparable property for the HOME-assisted property in lieu of the repayment requirement for a project that fail to meet to the affordability requirements for the specified period.

Nature of Requirement: Section 92.503(b) requires that any HOME funds invested in a project that fails to meet the affordability requirements for the period specified in § 92.252 be repaid by the participating jurisdiction to its HOME account.

Granted By: Pamela H. Patenaude, Assistant Secretary for Community Planning and Development.

Date Granted: June 9, 2006.

Reason Waived: This waiver permitted the substitution of comparable units in lieu of the repayment requirement to maintain the number of affordable housing units available in the community.

Contact: Virginia Sardone, Office of Community Planning and Development, Department of Housing and Urban Development, 451 Seventh Street, SW., Washington DC 20410-7000, telephone (202) 708-2470.

• Regulation: 24 CFR 570.207(b)(4).

Project/Activity: The City of Freemont, California, requested a waiver of 24 CFR 570.207(b)(4) of the CDBG regulations regarding the use of emergency grant payments for up to six consecutive months.

Nature of Requirement: Section 570.207(b)(4) of the CDBG regulations prohibits income payments. For the CDBG program, “income payments” means a series of subsistence-type grant payments made to an individual or family for items such as food, clothing, housing (rent or mortgage), or utilities, but excludes emergency grant payments made over a period of up to three consecutive months to the providers of such items and services on behalf of an individual or family.

Granted By: Pamela H. Patenaude, Assistant Secretary for Community Planning and Development.

Date Granted: June 9, 2006.

Reasons Waived: Due to the number of Hurricane Katrina evacuees that relocated to the City of Freemont and the needs of this population, it was determined, pursuant to 24 CFR 5.110, that good cause existed to waive the provisions of 24 CFR 570.207(b)(4) to permit emergency grant payments for up to six consecutive months. While this waiver allowed for emergency grant payments to be made for up to six consecutive months, the payments must be made to service providers as opposed to the affected individuals or households. The relief granted by this waiver was made available to the city solely for activities related to Hurricane Katrina and relief for the affected individuals residing in the city of Freemont.

Contact: Stanley Gimont, Office of Community Planning and Development, Department of Housing and Urban Development, 451 Seventh Street, SW., Washington, DC 20410-7000, telephone (202) 708-1577.

• Regulation: 24 CFR 570.208(a)(3).

Project/Activity: The City of Orlando, Florida, requested a waiver of 24 CFR 570.208(a)(3) of the Community Development Block Grant (CDBG) regulations to facilitate the construction of new multi-family residential rental units and new single-family owner-occupied residential units that will be made available to both low- and moderate-income-rate and market-rate households. The project will reduce a concentration of lower-income households by creating a mixed-income housing development.

Nature of Requirement: Section 570.208(a)(3) of the CDBG regulations generally requires that at least 51 percent of the units in multi-unit residential structures and 100 percent of single-family unit structures be occupied by low- and moderate-income households. The city requested that a project, known as Carver Court, be allowed to meet the low- and moderate-income national objective for housing, although less than 100 percent of the single-family units would be available to low- and moderate-income households.

Granted By: Pamela H. Patenaude, Assistant Secretary for Community Planning and Development.

Date Granted: June 22, 2006.

Reasons Waived: The City of Orlando's Housing Authority sought to undertake new housing construction that would result in a 203-unit mixed-income residential community. The mixed-income approach that would aid in the deconcentration of public housing units within the project area and further assist in subsidizing the cost of the low- and moderate-income housing. The project would include 146 rental units and 57 owner-occupied single-family units. Of the 146 rental units, 116 were to be occupied by low- and moderate-income households, while 30 units would be provided to market-rate renters. Of the 57 owner-occupied single-family units, 22 will be occupied by low- and moderate-income households, while 35 units would be sold to market-rate homebuyers. Of the combined 203 residential units, 68 percent, or 138 units would be occupied by low- and moderate-income households.

Contact: Stanley Gimont, Office of Community Planning and Development, Department of Housing and Urban Development, 451 Seventh Street, SW., Washington, DC 20410-7000, telephone (202) 708-1577.

• Statutory Provision/Regulation: 42 U.S.C. 11374(a)(2)(B) and 24 CFR 576.21(b).

Project/Activity: The City of Bridgeport, Connecticut, requested a waiver of the Emergency Shelter Grants (ESG) program statutory provision at 42 U.S.C. 11374(a)(2)(B) and the regulation at 24 CFR 576.21 (b).

Nature of Requirements: The McKinney-Vento Homeless Assistance Act (Act) (42 U.S.C. 11374(a)(2)(B)) provides that no more than 30 percent of a recipient's grant may be used for essential services. This requirement is found at 24 CFR 576.21(b). The Act further provides a statutory waiver (42 U.S.C. 11374(b)) of the 30 percent limitation, if the Secretary finds that a recipient “demonstrates that the other eligible activities under the program are already being carried out in the locality with other resources.” This waiver authority is found at 24 CFR 576.21(c). A variety of services addressing homeless needs are eligible essential services, including those concerned with employment, health, drug abuse and education.

Granted By: Pamela H. Patenaude, Assistant Secretary for Community Planning and Development.

Date Granted: May 1, 2006.

Reasons Waived: The City of Bridgeport met the statutory standard for waiving the 30 percent limitation on essential services. The City of Bridgeport provided a letter that demonstrated that other categories of ESG activities would be carried out locally with other resources. Therefore, it was determined that the waiver was appropriate.

Contact: Mike Roanhouse, Office of Community Planning and Development, Department of Housing and Urban Development, 451 Seventh Street, SW., Washington, DC 20410-7000, telephone (202) 708-1226.

II. Regulatory Waivers Granted by the Office of Housing—Federal Housing Administration (FHA)

For further information about the following regulatory waivers, please see the name of the contact person that immediately follows the description of the waiver granted.

• Regulation: 24 CFR 219.220(b).

Project/Activity: Pittsburgh, Pennsylvania (Riverview Towers Phase II—FHA Project Number 033-44052). The Pittsburgh Multifamily Program Center requested waiver of this regulation to allow for the re-amortization and extension of maturity for the flexible subsidy loan on the subject property. This will allow the property to remain affordable and continue to serve the same elderly and very low-income tenant population.

Nature of Requirement: HUD regulations at 24 CFR 219.220(b) govern the repayment of assistance provided under the Flexible Subsidy Program for Troubled Projects prior to May 1, 1996, requiring that assistance paid to project owners must be repaid at the earlier of the expiration of the term of the mortgage, termination of mortgage insurance, prepayment of the mortgage or at sale of the project. Section 5.110 relates to admission of families to projects for elderly or handicapped families that received reservations under Section 202 of the Housing Act of 1959 and housing assistance under Section 8 of the U.S. Housing Act of 1937.

Granted By: Frank L. Davis, General Deputy Assistant Secretary for Housing—Deputy Federal Housing Commissioner.

Date Granted: June 9, 2006.

Reason Waived: This waiver was granted to allow modification of the terms of the flexible subsidy loan to prevent the property falling into serious disrepair. Waiver of this requirement allowed the property to be decent, safe and affordable housing for its tenants. The property's insured mortgage will mature on July 13, 2013. The project obtained firm commitments totaling $2,563,350 from various sources with the intention of performing extensive renovations/modernization to the property. In order to secure loans from the Pennsylvania Housing Finance Agency under the Urban Redevelopment Act, Riverview Towers proposed to modify the terms of the flexible subsidy loan.

Contact: Beverly J. Miller, Director, Office of Asset Management, Office of Housing, Department of Housing and Urban Development, 451 Seventh Street, SW., Room 6l60, Washington, DC 20410, telephone (202) 708-3730.

• Regulation: 24 CFR 219.220(b).

Project/Activity: Rockland, Massachusetts (Rockland Place—FHA Project Number 023-057NI). The Boston Multifamily Hub requested waiver of the regulations to allow for the repayment of principal only on the flexible subsidy loan, and re-amortize the accrued interest in a new Residual Receipts Note.

Nature of Requirement: HUD regulations at 24 CFR 219.220(b) govern the repayment of assistance provided under the Flexible Subsidy Program for Troubled Projects prior to May 1, 1996, requiring that assistance paid to project owners must be repaid at the earlier of the expiration of the term of the mortgage, termination of mortgage insurance, prepayment of the mortgage or at sale of the project. Section 5.110 relates to admission of families to projects for elderly or handicapped families that received reservations under Section 202 of the Housing Act of 1959 and housing assistance under Section 8 of the U.S. Housing Act of 1937.

Granted By: Frank L. Davis, General Deputy Assistant Secretary for Housing-Deputy Federal Housing Commissioner.

Date Granted: June 27, 2006.

Reason Waived: This waiver was granted to assist in bringing the property to an acceptable condition. Rockland Place had received three less than acceptable physical inspection scores assessed by the Department. The proposal would infuse cash to the property by selling the property to a new owner with rehabilitation and preservation requirements. The purchaser offered to pay the second flexible subsidy loan in full, plus accrued interest, at the time of the prepayment of the noninsured mortgage. The purchaser also proposed to pay the principal amount of $1,000,000 on the first flexible subsidy loan at prepayment and re-amortize the accrued interest in a new residual receipts note, which will be due upon any future sale, refinancing or expiration of affordability restrictions.

Contact: Beverly J. Miller, Director, Office of Asset Management, Office of Housing, Department of Housing and Urban Development, 451 Seventh Street, SW., Room 6160, Washington, DC 20410, telephone (202) 708-3730.

• Regulation: 24 CFR 290.30(a)

Project/Activity: Bronx, New York (Highbridge House—FHA Project Number 012-11027, and Stevenson Towers—FHA Project Number 012-11028). The owners of Highbridge House and Stevenson Towers have requested prepayment approval and that the Department assign the mortgages to a new mortgagee.

Nature of Requirement: HUD regulations at 24 CFR Part 290, subpart B, govern the sale of HUD-held mortgages. Section 290.30(a) of those regulations state that “e[xcept] as otherwise provided in Section 290.31(a)(2), HUD will sell HUD-held multifamily mortgages on a competitive basis. HUD retains full discretion to offer any qualifying mortgage for sale and to withhold or withdraw any offered mortgage from sale.” Section 290.31(a)(2) permits “negotiated” sales to state or local governments for mortgage loans that are current and secured by subsidized projects, provided such loans are sold with FHA insurance.

Granted By: Frank L. Davis, General Deputy Assistant Secretary for Housing—Deputy Federal Housing Commissioner.

Date Granted: May 1, 2006.

Reason Waived: The General Deputy Assistant Secretary for Housing has granted prepayment approval of their HUD-held mortgages and assignment of the mortgages to a new mortgagee, RCG Longview II, L.P., for mortgage tax savings in the state of New York. This regulation requires a competitive sale of HUD-held mortgages. Waiver of this regulation will allow HUD to enter into a noncompetitive loan sale arrangement with RCG Longview II, L.P., the lender for the borrowers. RCG Longview II, has agreed to these assignments and to pay the full amount of the HUD loans.

Contact: Beverly J. Miller, Director, Office of Asset Management, U.S. Department of Housing and Urban Development, 451 7th Street, SW., Room 6160, Washington, DC 20410, telephone (202) 708-3730 (this is not a toll free number).

• Regulation: 24 CFR 891.100(d).

Project/Activity: Harrison Haven, Kingman, AZ, Project Number: 123-EE096/AZ20-S041-002.

Nature of Requirement: Section 891.100(d) prohibits amendment of the amount of the approved capital advance funds prior to initial closing.

Granted by: Brian D. Montgomery, Assistant Secretary for Housing—Federal Housing Commissioner.

Date Granted: April 6, 2006.

Reason Waived: The project is economically designed and comparable in cost to similar projects in the area, and the sponsor/owner exhausted all efforts to obtain additional funding from other sources.

Contact: Willie Spearmon, Director, Office of Housing Assistance and Grant Administration, Office of Housing Department of Housing and Urban Development, 451 Seventh Street, SW., Washington, DC 20410-8000, telephone (202) 708-3000.

• Regulation: 24 CFR 891.100(d).

Project/Activity: Residence Connections, Bowling Green, OH, Project Number: 042-HD111/OH12-Q021-009.

Nature of Requirement: Section 891.100(d) prohibits amendment of the amount of the approved capital advance funds prior to initial closing.

Granted by: Brian D. Montgomery, Assistant Secretary for Housing—Federal Housing Commissioner.

Date Granted: April 19, 2006.

Reason Waived: The project is economically designed and comparable in cost to similar projects in the area, and the sponsor/owner exhausted all efforts to obtain additional funding from other sources.

Contact: Willie Spearmon, Director, Office of Housing, Assistance and Grant Administration, Office of Housing, Department of Housing and Urban Development, 451 Seventh Street, SW., Washington, DC 20410-8000, telephone (202) 708-3000.

• Regulation: 24 CFR 891.100(d).

Project/Activity: Nassau AHRC Development 2004, Levittown, NY, Project Number: 012-HD123/NY36-Q041-002.

Nature of Requirement: Section 891.100(d) prohibits amendment of the amount of the approved capital advance funds prior to initial closing.

Granted by: Brian D. Montgomery, Assistant Secretary for Housing—Federal Housing Commissioner.

Date Granted: April 19, 2006.

Reason Waived: The project is economically designed and comparable in cost to similar projects in the area, and the sponsor/owner has exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: James River Apartments, Richmond, VA, Project Number: 051-HD121/VA36-Q031-003.

Nature of Requirement: Section 891.100(d) prohibits amendment of the amount of the approved capital advance funds prior to initial closing.

Granted by: Brian D. Montgomery, Assistant Secretary for Housing—Federal Housing Commissioner.

Date Granted: April 19, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Harvey II, Harvey, IL, Project Number: 071-EE174/IL06-S021-002.

Nature of Requirement: Section 891.100(d) prohibits amendment of the amount of the approved capital advance funds prior to initial closing.

Granted by: Brian D. Montgomery, Assistant Secretary for Housing—Federal Housing Commissioner.

Date Granted: April 19, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Gula Miller Senior Heights, Chataignier, LA, Project Number: 064-EE154/LA48-S031-008.

Nature of Requirement: Section 891.100(d) prohibits amendment of the amount of the approved capital advance funds prior to initial closing.

Granted by: Brian D. Montgomery, Assistant Secretary for Housing—Federal Housing Commissioner.

Date Granted: April 20, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Broadway Towers, Anniston, AL, Project Number: 062-EE071/AL09-S041-008.

Nature of Requirement: Section 891.100(d) prohibits amendment of the amount of the approved capital advance funds prior to initial closing.

Granted by: Brian D. Montgomery, Assistant Secretary for Housing—Federal Housing Commissioner.

Date Granted: April 24, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Echols Place Apartments, Clovis, NM, Project Number: 116-HD025/NM16-Q041-002.

Nature of Requirement: Section 891.100(d) prohibits amendment of the amount of the approved capital advance funds prior to initial closing.

Granted by: Brian D. Montgomery, Assistant Secretary for Housing—Federal Housing Commissioner.

Date Granted: April 25, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Roselawn Apartments, Artesia, NM, Project Number: 116-EE033/NM16-S041-001.

Nature of Requirement: Section 891.100(d) prohibits amendment of the amount of the approved capital advance funds prior to initial closing.

Granted by: Brian D. Montgomery, Assistant Secretary for Housing—Federal Housing Commissioner.

Date Granted: April 25, 2006.

Reason Waived: The project is economically designed and comparable in cost to similar projects in the area, and the sponsor/owner has exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Third Ward VOA Elderly Housing, St. Louis, MO, Project Number: 085-Ee081/MO36-S041-004.

Nature of Requirement: Section 891.100(d) prohibits amendment of the amount of the approved capital advance funds prior to initial closing.

Granted by: Brian D. Montgomery, Assistant Secretary for Housing—Federal Housing Commissioner.

Date Granted: April 25, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Omaha Care Senior Living, Macy, NE, Project Number: 103-EE030/NE26-S031-002.

Nature of Requirement: Section 891.100(d) prohibits amendment of the amount of the approved capital advance funds prior to initial closing.

Granted by: Brian D. Montgomery, Assistant Secretary for Housing—Federal Housing Commissioner.

Date Granted: April 28, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Tuscumbia VOA, Tuscumbia, AL, Project Number: 062-HD056/AL09-Q041-002.

Nature of Requirement: Section 891.100(d) prohibits amendment of the amount of the approved capital advance funds prior to initial closing.

Granted by: Brian D. Montgomery, Assistant Secretary for Housing—Federal Housing Commissioner.

Date Granted: May 1, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Rendu Terrace West, Mobile, AL, Project Number: 062-EE063/AL09-S031-004.

Nature of Requirement: Section 891.100(d) prohibits amendment of the amount of the approved capital advance funds prior to initial closing.

Granted by: Brian D. Montgomery, Assistant Secretary for Housing—Federal Housing Commissioner.

Date Granted: May 1, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Palermo Lakes Apartments, Miami, FL, Project Number: 066-EE100/FL29-S031-012.

Nature of Requirement: Section 891.100(d) prohibits amendment of the amount of the approved capital advance funds prior to initial closing.

Granted by: Brian D. Montgomery, Assistant Secretary for Housing—Federal Housing Commissioner.

Date Granted: May 8, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: VOA Selma, Selma, AL, Project Number: 062-EE065/AL09-S041-002.

Nature of Requirement: Section 891.100(d) prohibits amendment of the amount of the approved capital advance funds prior to initial closing.

Granted by: Brian D. Montgomery, Assistant Secretary for Housing—Federal Housing Commissioner.

Date Granted: May 8, 2006.

Reason Waived: The project is economically designed and comparable in cost to similar projects in the area, and the sponsor/owner has exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Somerset 2003 Consumer Home, Green Brook Township, NJ, Project Number: 031-HD136/NJ39-Q031-004.

Nature of Requirement: Section 891.100(d) prohibits amendment of the amount of the approved capital advance funds prior to initial closing.

Granted by: Brian D. Montgomery, Assistant Secretary for Housing—Federal Housing Commissioner.

Date Granted: May 22, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: NCR of Alief II, Houston, TX, Project Number: 114-EE120/TX24-S041-008.

Nature of Requirement: Section 891.100(d) prohibits amendment of the amount of the approved capital advance funds prior to initial closing.

Granted by: Brian D. Montgomery, Assistant Secretary for Housing—Federal Housing Commissioner.

Date Granted: May 24, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Westminster Homes II, Jennings, LA, Project Number: 064-EE172/LA48-S041-010.

Nature of Requirement: Section 891.100(d) prohibits amendment of the amount of the approved capital advance funds prior to initial closing.

Granted by: Brian D. Montgomery, Assistant Secretary for Housing—Federal Housing Commissioner.

Date Granted: May 24, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Maison De Monde (Sunset Housing), Sunset, LA, Project Number: 064-HD089/LA48-Q041-004.

Nature of Requirement: Section 891.100(d) prohibits amendment of the amount of the approved capital advance funds prior to initial closing.

Granted by: Brian D. Montgomery, Assistant Secretary for Housing—Federal Housing Commissioner.

Date Granted: May 24, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Venture Development 2004, Garnerville, NY, Project Number: 012-HD124/NY36-Q041-003.

Nature of Requirement: Section 891.100(d) prohibits amendment of the amount of the approved capital advance funds prior to initial closing.

Granted by: Brian D. Montgomery, Assistant Secretary for Housing—Federal Housing Commissioner.

Date Granted: May 25, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Josiah Place, North Platte, NE, Project Number: 103-HD032-NE26-Q041-001.

Nature of Requirement: Section 891.100(d) prohibits amendment of the amount of the approved capital advance funds prior to initial closing.

Granted by: Brian D. Montgomery, Assistant Secretary for Housing—Federal Housing Commissioner.

Date Granted: May 25, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: TBD, Stevens Point, WI, Project Number: 075-HD087/WI39-Q041-006.

Nature of Requirement: Section 891.100(d) prohibits amendment of the amount of the approved capital advance funds prior to initial closing.

Granted by: Brian D. Montgomery, Assistant Secretary for Housing—Federal Housing Commissioner.

Date Granted: May 31, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: TBD, Burlington, WI, Project Number: 075-HD088/WI39-Q041-007.

Nature of Requirement: Section 891.100(d) prohibits amendment of the amount of the approved capital advance funds prior to initial closing.

Granted by: Brian D. Montgomery, Assistant Secretary for Housing—Federal Housing Commissioner.

Date Granted: June 1, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: TBD, West Allis, WI, Project Number: 075-EE127/WI39-S031-007.

Nature of Requirement: Section 891.100(d) prohibits amendment of the amount of the approved capital advance funds prior to initial closing.

Granted by: Brian D. Montgomery, Assistant Secretary for Housing—Federal Housing Commissioner.

Date Granted: June 1, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: RCCC Villa, Ruthven, IA, Project Number: 074-Ee045/IA05-S041-001.

Nature of Requirement: Section 891.100(d) prohibits amendment of the amount of the approved capital advance funds prior to initial closing.

Granted by: Brian D. Montgomery, Assistant Secretary for Housing—Federal Housing Commissioner.

Date Granted: June 1, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Rose Hill House II, Kirkwood, MO, Project Number: 085-EE080/MO36-S041-003.

Nature of Requirement: Section 891.100(d) prohibits amendment of the amount of the approved capital advance funds prior to initial closing.

Granted by: Brian D. Montgomery, Assistant Secretary for Housing—Federal Housing Commissioner.

Date Granted: June 2, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Northside Coalition Senior Housing, Pittsburgh, PA, Project Number: 033-EE121/PA28-S041-003.

Nature of Requirement: Section 891.100(d) prohibits amendment of the amount of the approved capital advance funds prior to initial closing.

Granted by: Brian D. Montgomery, Assistant Secretary for Housing—Federal Housing Commissioner.

Date Granted: June 2, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Brush Hill Residence, Yarmouth, MA, Project Number: 023-HD182/MA06-Q011-010.

Nature of Requirement: Section 891.100(d) prohibits amendment of the amount of the approved capital advance funds prior to initial closing.

Granted by: Brian D. Montgomery, Assistant Secretary for Housing—Federal Housing Commissioner.

Date Granted: June 2, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Glengarra Place, Missoula, MT, Project Number: 093-EE017/MT99-S041-001.

Nature of Requirement: Section 891.100(d) prohibits amendment of the amount of the approved capital advance funds prior to initial closing.

Granted by: Brian D. Montgomery, Assistant Secretary for Housing—Federal Housing Commissioner.

Date Granted: June 2, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Las Villas De Magnolia, Houston, TX, Project Number: 114-EE123/TX24-S041-011.

Nature of Requirement: Section 891.100(d) prohibits amendment of the amount of the approved capital advance funds prior to initial closing.

Granted by: Brian D. Montgomery, Assistant Secretary for Housing—Federal Housing Commissioner.

Date Granted: June 2, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Birmingham Green Adult Care Residence, Manassas, VA, Project Number: 000-HD054/VA39-Q021-002.

Nature of Requirement: Section 891.100(d) prohibits amendment of the amount of the approved capital advance funds prior to initial closing.

Granted by: Brian D. Montgomery, Assistant Secretary for Housing—Federal Housing Commissioner.

Date Granted: June 8, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Birmingham Green Assisted Living, Inc., Manassas, VA, Project Number: 000-EE057/VA39-S021-001.

Nature of Requirement: Section 891.100(d) prohibits amendment of the amount of the approved capital advance funds prior to initial closing.

Granted by: Brian D. Montgomery, Assistant Secretary for Housing—Federal Housing Commissioner.

Date Granted: June 12, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Magnolia Heights Apartments, Joplin, MO, Project Number: 084-HD051/MO16-Q041-005.

Nature of Requirement: Section 891.100(d) prohibits amendment of the amount of the approved capital advance funds prior to initial closing.

Granted by: Brian D. Montgomery, Assistant Secretary for Housing—Federal Housing Commissioner.

Date Granted: June 12, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Bob Miller Estates, McCurtain, OK, Project Number: 118-EE038/OK56-S041-006.

Nature of Requirement: Section 891.100(d) prohibits amendment of the amount of the approved capital advance funds prior to initial closing.

Granted by: Brian D. Montgomery, Assistant Secretary for Housing—Federal Housing Commissioner.

Date Granted: June 13, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Louis Sandmann Senior Housing, Coalgate, OK, Project Number: 118-EE042/OK56-S051-003.

Nature of Requirement: Section 891.100(d) prohibits amendment of the amount of the approved capital advance funds prior to initial closing.

Granted by: Brian D. Montgomery, Assistant Secretary for Housing—Federal Housing Commissioner.

Date Granted: June 13, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Clayton Place Senior Housing, Clayton, OK, Project Number: 118-EE035/OK56-S041-008.

Nature of Requirement: Section 891.100(d) prohibits amendment of the amount of the approved capital advance funds prior to initial closing.

Granted by: Brian D. Montgomery, Assistant Secretary for Housing—Federal Housing Commissioner.

Date Granted: June 14, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Champ Hodges Estates, Hartshorne, OK, Project Number: 118-EE037/OK56-S041-005.

Nature of Requirement: Section 891.100(d) prohibits amendment of the amount of the approved capital advance funds prior to initial closing.

Granted by: Brian D. Montgomery, Assistant Secretary for Housing—Federal Housing Commissioner.

Date Granted: June 14, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Mount Olive Manor II, Flanders, NJ, Project Number: 031-EE064/NJ39-S041-002.

Nature of Requirement: Section 891.100(d) prohibits amendment of the amount of the approved capital advance funds prior to initial closing.

Granted by: Brian D. Montgomery, Assistant Secretary for Housing—Federal Housing Commissioner.

Date Granted: June 14, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Heritage Park, Muskogee, OK, Project Number: 118-HD028/OK56-Q041-004.

Nature of Requirement: Section 891.100(d) prohibits amendment of the amount of the approved capital advance funds prior to initial closing.

Granted by: Brian D. Montgomery, Assistant Secretary for Housing—Federal Housing Commissioner.

Date Granted: June 15, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Garland VOA Elderly Housing, Garland, TX, Project Number: 113-EE027/TX21-S021-005.

Nature of Requirement: Section 891.100(d) prohibits amendment of the amount of the approved capital advance funds prior to initial closing.

Granted by: Brian D. Montgomery, Assistant Secretary for Housing—Federal Housing Commissioner.

Date Granted: June 15, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Dunson School Apartments, LaGrange, GA, Project Number: 061-EE145/GA06-S041-016.

Nature of Requirement: Section 891.100(d) prohibits amendment of the amount of the approved capital advance funds prior to initial closing.

Granted by: Brian D. Montgomery, Assistant Secretary for Housing—Federal Housing Commissioner.

Date Granted: June 15, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Davidson Heights, Stilwell, OK, Project Number: 118-EE032/OK56-S041-004.

Nature of Requirement: Section 891.100(d) prohibits amendment of the amount of the approved capital advance funds prior to initial closing.

Granted by: Brian D. Montgomery, Assistant Secretary for Housing—Federal Housing Commissioner.

Date Granted: June 15, 2006.

Reason Waived: The project is economically designed and comparable in cost to similar projects in the area, and the sponsor/owner has exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Moravian House IV, Bethlehem, PA, Project Number: 034-HD080/PA26-Q041-003.

Nature of Requirement: Section 891.100(d) prohibits amendment of the amount of the approved capital advance funds prior to initial closing.

Granted by: Brian D. Montgomery, Assistant Secretary for Housing—Federal Housing Commissioner.

Date Granted: June 15, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Villa De Lucas, Beaumont, TX, Project Number: 114-HD028/TX24-Q031-002.

Nature of Requirement: Section 891.100(d) prohibits amendment of the amount of the approved capital advance funds prior to initial closing.

Granted by: Brian D. Montgomery, Assistant Secretary for Housing—Federal Housing Commissioner.

Date Granted: June 15, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Beattie House at Mt. Eustis Commons, Littleton, NH, Project Number: 024-EE083/NH36-S041-005.

Nature of Requirement: Section 891.100(d) prohibits amendment of the amount of the approved capital advance funds prior to initial closing.

Granted by: Brian D. Montgomery, Assistant Secretary for Housing—Federal Housing Commissioner.

Date Granted: June 27, 2006.

Reason Waived: The project is economically designed and comparable in cost to similar projects in the area, and the sponsor/owner has exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Gulfport Manor, Gulfport, MS, Project Number: 065-EE031/MS26-S001-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 21, 2006.

Reason Waived: The project is economically designed and comparable to similar projects in the area, and the sponsor/owner has exhausted all efforts to obtain additional funding from other sources. The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Inglis Gardens at Germantown, Philadelphia, PA, Project Number: 034-HD075/PA26-Q031-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 5, 2006.

Reason Waived: The project is economically designed and comparable to similar projects in the area, and the sponsor/owner exhausted all efforts to obtain additional funding from other sources. The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Garland VOA Elderly Housing, Garland, TX, Project Number: 113-Ee027/TX21-S021-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 24, 2006.

Reason Waived: The project is economically designed and comparable to similar projects in the area, and the sponsor/owner exhausted all efforts to obtain additional funding from other sources. The sponsor/owner needed additional time to secure amendment funds and prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Sky Forest Acres, South Lake Tahoe, CA, Project Number: 136-HD014/CA30-Q011-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 2, 2006.

Reason Waived: The project is economically designed and comparable to similar projects in the area, and the sponsor/owner exhausted all efforts to obtain additional funding from other sources. The sponsor/owner needed additional time to secure amendment funds and prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Haley's Park, Nashville, TN, Project Number: 086-HD033/TN43-Q031-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 2, 2006.

Reason Waived: The project is economically designed and comparable to similar projects in the area, and the sponsor/owner exhausted all efforts to obtain additional funding from other sources. The sponsor/owner needed additional time to secure amendment funds.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Sanchez Project, Middlebury, VT, Project Number: 024-HD044/VT36-Q031-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 2, 2006.

Reason Waived: The project is economically designed and comparable to similar projects in the area, and the sponsor/owner exhausted all efforts to obtain additional funds from other sources. The sponsor/owner needed additional time to secure amendment funds and prepare for initially closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Southview Senior Residence, Bronx, NY, Project Number: 012-EE318/NY36-S011-012.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 2, 2006.

Reason Waived: The project is economically designed and comparable to similar projects in the area, and the sponsor/owner exhausted all efforts to obtain additional funding from other sources. The sponsor/owner needed additional time due to the zoning authorization approval process.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Denrael Residence, Salisbury, MA, Project Number: 023-HD199/MA06-Q031-007.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 7, 2006.

Reason Waived: The project is economically designed and comparable to similar projects in the area, and the sponsor/owner exhausted all efforts to obtain additional funding from other sources. The sponsor/owner needed additional time to secure amendment funds and to prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Coop Apartments, Pittsfield, MA, Project Number: 023-HD204/MA06-Q031-012.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 9, 2006.

Reason Waived: The project is economically designed and comparable to similar projects in the area, and the sponsor/owner exhausted all efforts to obtain additional funding from other sources. The sponsor/owner needed additional time to revise the firm commitment application.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Gates Plaza Senior Residence, Brooklyn, NY, Project Number: 012-EE329/NY36-S031-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 16, 2006.

Reason Waived: The project is economically designed and comparable to similar projects in the area, and the sponsor/owner exhausted all efforts to obtain additional funding from other sources. The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Willow Bend Creek Apartments, Fort Worth, TX, Project Number: 113-HD020/TX21-Q021-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 27, 2006.

Reason Waived: The project is economically designed and comparable to similar projects in the area, and the sponsor/owner exhausted all efforts to obtain additional funding from other sources. The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.120(c).

Project/Activity: Tri Cities Terrace South, Richland, WA, Project Number: 171-HD014/WA19-Q041-005.

Nature of Requirement: Section 891.120(c) prohibits the use of HUD funding to cover the cost of acquisition and/or related operating expenses for excess amenities.

Granted by: Brian D. Montgomery, Assistant Secretary for Housing—Federal Housing Commissioner.

Date Granted: April 24, 2006.

Reason Waived: Waivers are approved when the Department determines that the amenities are a necessity in meeting the health and safety needs of the residents.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Howland Housing, Howland Township, OH, Project Number: 042-EE161/OH12-S031-014.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 25, 2006.

Reason Waived: The sponsor/owner needed additional time to locate another site.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Delmor Dwellings, Bucyrus, OH, Project Number: 042-HD113/OH12-Q031-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 27, 2006.

Reason Waived: The sponsor/owner needed additional time to re-bid the construction contract.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: VOA Sandusky, Sandusky, OH, Project Number: 042-HD110/OH12-Q021-008.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 14, 2006.

Reason Waived: The sponsor/owner needed additional time to re-bid the construction contract.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Meadowlark Apartments, Oregon City, OR, Project Number: 126-HD038/OR16-Q031-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 27, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Woodside Village, Toledo, OH, Project Number: 042-HD112/OH12-Q031-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 27, 2006.

Reason Waived: The sponsor/owner needed additional time to revise the firm commitment application.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Hale Mahaolu Ehiku, Kihei, HI, Project Number: 140-EE028/HI10-S021-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 1, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: St. George Housing Corporation, Superior, WI, Project Number: 075-HD074/WI39-Q021-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 1, 2006.

Reason Waived: The sponsor/owner needed additional time to research that use of the site met legal requirement sfor the structure to be built on the site.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Gardens at Immanuel House, New Haven, CT, Project Number: 017-EE071/CT26-S021-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 10, 2006.

Reason Waived: The sponsor/owner needed additional time to secure secondary financing and to submit the firm commitment exhibits.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Whalley Avenue Housing II, New Haven, CT, Project Number: 017-HD031/CT26-Q011-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 10, 2006.

Reason Waived: The sponsor/owner needed additional time to revise the firm commitment application and to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Columbia Supportive Living, Knowlton, NJ, Project Number: 031-HD131/NJ39-Q021-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 11, 2006.

Reason Waived: The sponsor/owner needed additional time to redesign the project.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Brush Hill Residences, Yarmouth, MA, Project Number: 023-HD182/MA06-Q011-010.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 17, 2006.

Reason Waived: The sponsor/owner needed additional time to submit the firm commitment application.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Robinstein Homes, Cleveland, OH, Project Number: 042-HD115/OH12-Q031-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 19, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Hungry Run Housing Corporation, Rib Lake, WI, Project Number: 075-EE124/WI39-S031-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 22, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Grace Manor, Inglewood, CA, Project Number: 122-HD159/CA16-Q031-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 22, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: McTaggert II Akron, OH, Project Number: 042-HD096/OH12-Q011-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 23, 2006.

Reason Waived: The sponsor/owner needed additional time to locate another site and to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Wills Manor, Los Angeles, Project Number: 122-HD161/CA16-Q031-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 24, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Fox Creek II, Akron, OH, Project Number: 042-HD116/OH12-Q031-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 24, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Fox Creek I, Springfield Township, OH, Project Number: 042-HD117/OH12-Q031-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 24, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Goodman Lake Housing Corporation, Richland Center, WI, Project Number: 075-EE126/WI39-S031-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 24, 2006.

Reason Waived: The sponsor/owner needed additional time to resolve issues pertaining to whether the site met the legal requirements necessary for the structure to be built.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Spruce Manor, Jacksonville, IL, Project Number: 072-HD132/IL06-Q021-019.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 25, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Tikigaqmiut Senior Housing, Point Hope, AK, Project Number: 176-EE029/AK06-S021-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 30, 2006.

Reason Waived: The sponsor/owner needed additional time to resolve title issues.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Albany Housing VI, Albany, GA, Project Number: 061-HD098/GA06-Q041-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 31, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Kaktovik Senior Housing, Kaktovik, AK, Project Number: 176-EE032/AK06-S021-007.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 2, 2006.

Reason Waived: The sponsor/owner needed additional time to resolve title issues and to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Aaniyak Senior Housing, Anaktuvuk Pass, AK, Project Number: 176-EE030/AK06-S021-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 2, 2006.

Reason Waived: The sponsor/owner needed additional time to resolve title issues and to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Olgonikgum Uttuganaknich Senior Housing, Wainwright, AK, Project Number: 176-EE031/AK06-S021-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 2, 2006.

Reason Waived: The sponsor/owner needed additional time to resolve title issues and to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Villa Regina, West Palm Beach, FL, Project Number: 066-EE086/FL29-S011-010.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 2, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Harvey II, Harvey, Il, Project Number: 071-EE174/IL06-S021-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 2, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Balsam Terrace, Jacksonville, IL, Project Number: 072-EE147/IL06-S021-011.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 7, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Utuqqanaaqagvik Senior Housing, Nuiqsut, AK, Project Number: 176-EE033/Ak06-S021-008.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 7, 2006.

Reason Waived: The sponsor/owner needed additional time to resolve title issues and to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Delta Partners Manor II, Drew, MS, Project Number: 065-EE041/MS26-S031-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 13, 2006.

Reason Waived: The sponsor/owner needed additional time to select a new contractor.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: LaPalma Apartments, Miami, FL, Project Number: 066-EE093/FL29-S021-014.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 13, 2006.

Reason Waived: The sponsor/owner needed additional time to secure secondary financing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Hanover Lutheran Retirement, Hanover, PA, Project Number: 034-EE135/PA26-S031-007.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 15, 2006.

Reason Waived: The sponsor/owner needed additional time to resolve problems with the water system and local municipality issues.

Contact: Willie Spearmon, Director, Office of Housing Assistance and Grant Administration, Office of Housing, Department of Housing and Urban Development, 451 Seventh Street, SW., Washington, DC 20410-8000, telephone (202) 708-3000.

• Regulation: 24 CFR 891.305.

Project/Activity: Advance Supportive Housing II, New Milford, NJ, Project Number: 031-HD139/NJ39-Q031-007.

Nature of Requirement: Section 891.305 requires any nonprofit entity to have tax-exempt status under Section 501(c)(3) or (c)(4) of the Internal Revenue Code.

Granted by: Brian D. Montgomery, Assistant Secretary for Housing—Federal Housing Commissioner.

Date Granted: May 25, 2006.

Reason Waived: The required tax-exemption ruling from IRS was to be issued, but not in time for the scheduled initial closing of the project.

Contact: Willie Spearmon, Director, Office of Housing Assistance and Grant Administration, Office of Housing, Department of Housing and Urban Development, 451 Seventh Street, SW., Washington, DC 20410-8000, telephone (202) 708-3000.

• Regulation: 24 CFR 891.310(b)(1) and (b)(2).

Project/Activity: Nassau AHRC Development 2004, Levittown, NY, Project Number: 012-HD123/NY36-Q041-002.

Nature of Requirement: Section 891.310(b)(1) and (b)(3) require that all entrances, common areas, units to be occupied by resident staff, and amenities must be readily accessible to and usable by persons with disabilities.

Granted by: Brian D. Montgomery, Assistant Secretary for Housing—Federal Housing Commissioner.

Date Granted: June 1, 2006.

Reason Waived: The project consists of the acquisition and rehabilitation of two single-family homes in order to create at least one group home for the developmentally disabled. One home would house four residents and the other would house three residents. The waiver would permit one home to be fully accessible, which would result in the total project meeting the accessibility requirements.

Contact: Willie Spearmon, Director, Office of Housing Assistance and Grant Administration, Office of Housing, Department of Housing and Urban Development, 451 Seventh Street, SW., Washington, DC 20410-8000, telephone (202) 708-3000.

• Regulation: 24 CFR 891.410(c).

Project/Activity: Gary, West Virginia (The Oaks—Project Number 045-EE014). The Charleston Multifamily Program Center requested permission to waive the age requirement to alleviate occupancy problems at the project.

Nature of Requirement: HUD regulations at 24 CFR part 891 requires occupancy to be limited to very low income (VLI) elderly persons (i.e., households composed of one or more persons at least one of whom is 62 years of age at the time of initial occupancy). These regulations also require that an owner is to determine the eligibility in selecting tenants.

Granted By: Frank L. Davis, General Deputy Assistant Secretary for Housing—Deputy Federal Housing Commissioner.

Date Granted: April 6, 2006.

Reason Waived: This waiver was granted in order to alleviate occupancy problems at this Section 202/8 Supportive Housing for the Elderly project. The project consisted of 10 vacant units. The property's owner, McDowell County Action Network aggressively advertised and marketed the property to no avail. The Housing Authority of Mingo County advised they had six applicants on their waiting list with only two of those age eligible for the Oaks. Waiver of the age requirement allowed the property to rent to families or individuals who are 55 years of age but below the age of 62 and allowed the additional flexibility of renting vacant units.

Contact: Beverly J. Miller, Director, Office of Asset Management, Office of Housing, Department of Housing and Urban Development, 451 Seventh Street, SW., Room 6160, Washington, DC 20410, telephone (202) 708-3730.

• Regulation: 24 CFR 891.410(c).

Project/Activity: Strawberry, Arkansas (Strawberry Fields Apartments—FHA Project Number 082-EE140). The Fort Worth Multifamily Hub requested waiver of the age and very low-income requirements for this property to fill vacant units.

Nature of Requirement: HUD regulations at 24 CFR, part 891 requires occupancy to be limited to very low income (VLI) elderly persons (i.e., households composed of one or more persons at least one of whom is 62 years of age at the time of initial occupancy). These regulations also require that an owner is to determine the eligibility in selecting tenants.

Granted By: Frank L. Davis, General Deputy Assistant Secretary for Housing—Deputy Federal Housing Commissioner.

Date Granted: May 19, 2006.

Reason Waived: This waiver was granted to alleviate the current occupancy problem at this Supportive Housing for the Elderly Program, Section 202 project. The local housing market indicated that there was not sufficient demand for housing for the very low-income elderly. The owner/managing agent aggressively marked the property with the local housing authorities and various religious, social and community organizations. The property of the time of the request for the waiver, had two vacant units and no waiting list. Waiver of the age and income restrictions allowed the project flexibility to offer units to individuals who meet the definition of lower income elderly and, allowed the owner to increase occupancy levels.

Contact: Beverly J. Miller, Director, Office of Asset Management, Office of Housing, Department of Housing and Urban Development, 451 Seventh Street, SW., Room 6160, Washington, DC 20410, telephone (202) 708-3730.

• Regulation: 24 CFR 891.410(c).

Project/Activity: Ravenden, Arkansas (Cedar Ridge Apartments—FHA Project Number 082-EE128). The Fort Worth Multifamily Hub requested waiver of the very low-income limit to alleviate occupancy problems at the property.

Nature of Requirement: HUD regulations at 24 CFR part 891 requires occupancy to be limited to very low income (VLI) elderly persons (i.e., households composed of one or more persons at least one of whom is 62 years of age at the time of initial occupancy). These regulations also require that an owner is to determine the eligibility in selecting tenants.

Granted By: Frank L. Davis, General Deputy Assistant Secretary for Housing—Federal Housing Commissioner.

Date Granted: May 26, 2006.

Reason Waived: This waiver was granted to permit admission of lower-income (income between 51 and 80 percent of median), elderly applicants when there are no very low-income elderly applicants to fill vacant units. The market analysis indicated that there was insufficient effective demand to fill the complex with very low-income elderly. The owner aggressively marketed the property with the local housing authorities and various religious, social and community organizations. The property at the time of the request for waiver had 3 vacant units and with no waiting list. Granting of the waiver allowed the owner the flexibility to offer units to individuals who meet the definition of lower income elderly and, increase occupancy levels.

Contact: Beverly J. Miller, Director, Office of Asset Management, Office of Housing Department of Housing and Urban Development, 451 Seventh Street, SW., Room 6160, Washington, DC 20410, telephone (202) 708-3730.

• Regulation: 24 CFR 891.410(c).

Project/Activity: Stebbins, Alaska (Cupluaq House—FHA Project Number 176-EE012). The Anchorage Multifamily Housing Program Center has requested an age waiver for the subject project to alleviate current occupancy and financial problems at the property.

Nature of Requirement: HUD regulations at 24 CFR part 891 requires occupancy to be limited to very low income (VLI) elderly persons (i.e., households composed of one or more persons at least one of whom is 62 years of age at the time of initial occupancy). These regulations also require that an owner is to determine the eligibility in selecting tenants.

Granted By: Frank L. Davis, General Deputy Assistant Secretary for Housing—Deputy Federal Housing Commissioner.

Date Granted: May 31, 2006

Reason Waived: This waiver was granted to assist the project in renting up vacant units, thereby attaining full occupancy for the project. The property only managed to reach 60 percent occupancy since 2001. The current occupancy level does not support the complex. Permission to waive the elderly and very low-income requirement assisted in alleviating the current occupancy and financial problems at the property.

Contact: Beverly J. Miller, Director, Office of Asset Management, Office of Housing, U.S. Department of Housing and Urban Development, 451 Seventh Street, SW., Room 6160, Washington, DC 20410, telephone (202) 708-3730.

III. Regulatory Waivers Granted by the Office of Public and Indian Housing

For further information about the following regulatory waivers, please see the name of the contact person that immediately follows the description of the waiver granted.

• Regulation: 24 CFR 5.1005.

Project/Activity: Ms. Diane L. Brown-Job, President of Pleasant View Tenant Association, Inc. in Danville, VA approval of waiver of electronic filing requirement for FY2006 ROSS Family-Homeownership.

Nature of Requirement: Applicants described under 24 CFR 5.1001 are required to submit electronic applications or plans for grants and other financial assistance in response to any application that HUD has placed on the http://www.grants.gov/Apply website or its successor.

Granted By: Orlando J. Cabrera, Assistant Secretary for Public and Indian Housing.

Date Granted: April 20, 2006.

Reason Waived: This requirement was waived to the mobility impairments of the grant writer that prevent her from accessing the application electronically

Contact: Dominique Blom, Deputy Assistant Secretary for the Office of Public Housing Investments, Office of Public and Indian Housing, Department of Housing and Urban Development, 451 Seventh Street, SW., Washington, DC 20410, Room 4130, telephone (202) 708-0614, ext. 4181.

• Regulations: 24 CFR 5.801.

Project/Activity: City of Vacaville Housing Authority (CA131), Vacaville, CA.

Nature of Requirement: The regulation is 85.801 establishes certain reporting compliance dates. The audited financial statements are required to be submitted to the Real Estate Assessment Center (REAC) no later than nine months after the housing authority's (HA) fiscal year end (FYE), in accordance with the Single Audit Act and OMB Circular A-133.

Granted By: Orlando J. Cabrera, Assistant Secretary for Public and Indian Housing.

Date Granted: May 23, 2006.

Reason Waived: The City of Vacaville Housing Authority (CVHA), a Section 8 only entity, administers the Section 8 Housing Voucher Program for the Solano County Housing Authority (SCHA). Both HAs requested a 30-day extension of the audited financial submission deadline of March 31, 2006, for FYE June 30, 2005. The HAs were unable to complete the audit process due to confusion as to whether or not the CVHA should be considered a sub-recipient of the SCHA, since it administers the Section 8 Housing Voucher Program for the SCHA. The CVHA requested clarification from the Department as to which HA has audit responsibilities over the SCHA's Section 8 Housing Voucher Program. Because the circumstances surrounding the waiver request were unusual and beyond the HAs' control, the HAs were granted an extension of 30 days to submit their audited financial information.

Contact: David R. Ziaya, Program Manager, NASS, Real Estate Assessment Center, Office of Public and Indian Housing, Department of Housing and Urban Development, 550 12th Street, SW., Suite 100, Washington, DC 20410, telephone (202) 475-8574.

• Regulation: 24 CFR 902.20.

Project/Activity: Winter Haven Housing Authority (FL139), Winter Haven, FL.

Nature of Requirement: This regulation establishes criteria to determine whether a housing authority (HA) meets the standard of decent, safe, sanitary, and in good repair. The Real Estate Assessment Center (REAC) provides for an independent physical inspection of a HA's property of properties that includes a statistically valid sample of the units.

Granted By: Orlando J. Cabrera, Assistant Secretary for Public and Indian Housing.

Date Granted: April 14, 2006.

Reason Waived: The HA requested a waiver of the Physical Assessment Subsystem (PASS) indicator for fiscal year ending (FYE) September 30, 2005, because it was impacted by multiple hurricanes during fiscal year 2004. The HA's housing developments sustained significant damages that the HA is in the process of repairing. Consequently, the PASS requirements were waived and no physical inspections will be conducted for FYE September 30, 2005.

Contact: David R. Ziaya, Program Manager, NASS, Real Estate Assessment Center, Office of Public and Indian Housing, Department of Housing and Urban Development, 550 12th Street, SW., Suite 100, Washington, DC 20410, telephone (202) 475-8574.

• Regulation: 24 CFR 902.20.

Project/Activity: Caruthersville Housing Authority (MO036), Caruthersville, MO.

Nature of Requirement: This regulation establishes criteria to determine whether a housing authority (HA) meet the standard of decent, safe, sanitary, and in good repair. The Real Estate Assessment Center (REAC) provides for an independent physical inspection of a HA's property of properties that includes a statistically valid sample of the units.

Granted By: Orlando J. Cabrera, Assistant Secretary for Public and Indian Housing.

Date Granted: June 9, 2006.

Reason Waived: The HA was granted a waiver from physical inspections because of severe category F4 tornado damage to 197 of its 304 public housing units, and the declaration of the City of Caruthersville as by the Federal Emergency Management Agency.

Contact: David R. Ziaya, Program Manager, NASS, Real Estate Assessment Center, Office of Public and Indian Housing, Department of Housing and Urban Development, 550 12th Street, SW., Suite 100, Washington, DC 20410, telephone (202) 475-8574.

• Regulation: 24 CFR 902.30.

Project/Activity: Arcadia Housing Authority (FL055), Arcadia, FL.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Orlando J. Cabrera, Assistant Secretary for Public and Indian Housing.

Date Granted: April 5, 2006.

Reason Waived: The HA requested a three-month waiver of the audited financial submission due date of March 31, 2006, for FYE June 30, 2005, because the HA required additional time to procure an auditor. The HA's previous auditor informed the HA that he will no longer conduct audits in the state of Florida. The HA made numerous attempts to procure a new audit firm since August 2005, without success. The HA was granted a waiver extending the due date to June 30, 2006.

Contact: David R. Ziaya, Program Manager, NASS, Real Estate Assessment Center, Office of Public and Indian Housing, Department of Housing and Urban Development, 550 12th Street, SW., Suite 100, Washington, DC 20410, telephone (202) 475-8574.

• Regulation: 24 CFR 902.30.

Project/Activity: City of Las Vegas Housing Authority (NM007), Las Vegas, NM.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Orlando J. Cabrera, Assistant Secretary for Public and Indian Housing.

Date Granted: May 3, 2006.

Reason Waived: The HA requested a waiver extension of one-month to the audited financial information submission due date of March 31, 2006, for FYE June 30, 2005. The HA is an agency of the City of Las Vegas whose audit for fiscal year (FY) 2005 was delayed because the audit firm completing the FY 2004 audit filed for bankruptcy. A new audit firm, engaged by the City of Las Vegas in September 2005, proceeded to complete the FY 2004 audit and received the State Auditor's consent before proceeding to audit the City's FY 2005 books and records. The waiver provides a one-month extension to April 30, 2006, for the HA to submit its audited financial information.

Contact: David R. Ziaya, Program Manager, NASS, Real Estate Assessment Center, Office of Public and Indian Housing, Department of Housing and Urban Development, 550 12th Street, SW., Suite 100, Washington, DC 20410, telephone (202) 475-8574.

• Regulation: 24 CFR 902.30.

Project/Activity: Mercer County Housing Authority (PA020), Sharon, PA.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Orlando J. Cabrera, Assistant Secretary for Public and Indian Housing.

Date Granted: May 26, 2006.

Reason Waived: The HA requested a waiver of its (LPF) score of zero, and an extension of its March 31, 2006, submission deadline for FYE June 30, 2005. The reason for failing to submit its audited financial information by the submission deadline was because the HA's terminal server crashed causing extensive damage to the operating system thereby rendering the computer system useless for almost a week. The HA was at the last step of the audit submission process when the system crashed. Documentation provided by the HA substantiated the fact that the computer system crashed on March 31, 2006, and was completely reinstalled on April 4, 2006. The circumstances surrounding the HA's waiver request were beyond the HA's control and the HA was given 15 days from receipt of the waiver approval letter to complete and submit its audited financial information to the REAC.

Contact: David R. Ziaya, Program Manager, NASS, Real Estate Assessment Center, Office of Public and Indian Housing, Department of Housing and Urban Development, 550 12th Street, SW., Suite 100, Washington, DC 20410, telephone (202) 475-8574.

• Regulation: 24 CFR 902.50.

Project/Activity: Milton Housing Authority (FL053), Milton, FL.

Nature of Requirement: Section 902.50 provides for measurement of the level of resident satisfaction with living condition at the public housing authority. The Resident Service and Satisfaction Assessment are performed through the use of a survey under the Resident Assessment Subsystem (RASS) indicator. Additionally, the housing authority (HA) is responsible for completing implementation plan activities and developing a follow-up plan in accordance with the RASS requirements.

Granted By: Orlando J. Cabrera, Assistant Secretary for Public and Indian Housing.

Date Granted: June 9, 2006.

Reason Waived: The HA sustained direct hits from two hurricanes Ivan and Dennis, resulting in damages to roofs, flooded units, exterior siding, etc. that required the relocation of residents. Additionally, the HA was unable to certify the address information in the RASS for FYE March 31, 2006, because the city changed the unit and building addresses. The circumstances surrounding the waiver request under the RASS indicator were unusual and beyond the HA's control and therefore the RASS requirements are waived for FYE March 31, 2006.

Contact: David R. Ziaya, Program Manager, NASS, Real Estate Assessment Center, Office of Public and Indian Housing, Department of Housing and Urban Development, 550 12th Street, SW., Suite 100, Washington, DC 20410, telephone (202) 475-8574.

• Regulation: 24 CFR 902.20 and 24 CFR 5.801(c) and 5.801(d)(1).

Project/Activity: Opelousas Housing Authority (LA055), Opelousas, LA.

Nature of Requirement: Section 902.20 establishes criteria determine whether a housing authority (HA) is meeting the standard of decent, safe, sanitary, and in good repair. The Real Estate Assessment Center (REAC) provides for an independent physical inspection of a HA's property of properties that includes a statistically valid sample of the units. Section 5.801 establishes certain reporting compliance dates; namely, the Un-audited financial statements are required to be submitted within two months after the HA's Fiscal Year End (FYE), and the audited financial statements are required to be submitted no later than nine months after the HA's FYE, in accordance with the Single Audit Act and OMB Circular A-133 (24 CFR 902.30), and the Management operations certifications are required to be submitted within two months after the HA's FYE (24 CFR 902.40). The Resident Service and Satisfaction Indicator are performed through the use of a survey. The HA is responsible for completing implementation plan activities and developing a follow-up plan (24 CFR 902.50).

Granted By: Orlando J. Cabrera, Assistant Secretary for Public and Indian Housing.

Date Granted: May 5, 2006.

Reason Waived: The Opelousas Housing Authority, a hurricane Katrina disaster declared HA, was granted a waiver from the submission of all four Public Housing Assessment System (PHAS) indicators, as well as the overall PHAS score under 24 CFR 902 and 24 CFR 5.801(c) and 5.801(d)(1) for FYE June 30, 2006.

Contact: Wanda Funk, Hurricane Disaster Relief Coordinator, Real Estate Assessment Center, Office of Public and Indian Housing, Department of Housing and Urban Development, 550 12th Street, SW., Suite 100, Washington, DC 20410, telephone (202) 475-8736.

• Regulations: 24 CFR part 5 and 24 CFR Chapter IX.

Project/Activity: The PHAs identified in Table 1, are all located within a presidentially declared disaster area as a result of damages caused by Hurricanes Katrina and/or Rita or Hurricane Wilma, and each PHA notified HUD of the need for one or more regulatory waivers made available to PHAs in Hurricanes Katrina, Rita and Wilma disaster areas by three Federal Register notices. The first notice is Regulatory and Administrative Waivers Granted for Public and Indian Housing Programs to Assist with Recovery and Relief in Hurricane Katrina Disaster Areas, signed September 27, 2005, and published in the Federal Register on October 3, 2005 (70 FR 57716), the second notice is Regulatory and Administrative Waivers Granted for Public and Indian Housing Programs to Assist with Recovery and Relief in Hurricane Rita Disaster Areas; and Additional Administrative Relief for Hurricane Katrina, signed October 25, 2005, and published in the Federal Register on November 1, 2005 (70 FR 66222), and the third notice is Regulatory and Administrative Waivers Granted for Public and Indian Housing Programs To Assist With Recovery and Relief in Hurricane Wilma Disaster Areas, signed on March 7, 2006, and published in the Federal Register on March 13, 2006 (71 FR 12988):

Nature of Requirements: The three Federal Register notices provided for waiver of the following regulations, in 24 CFR part 5 and 24 CFR Chapter IX for those PHAs in the disaster areas that notified HUD through a special waiver request process designed to expedite both the submission of regulatory requests to HUD and HUD's response to the request.

1. 24 CFR 5.216(g)(5) (Disclosure and Verification of Social Security and Employer Identification Numbers);

2. 24 CFR 5.512(c) (Verification of Eligible Immigration Status; Secondary Verification);

3. 24 CFR 5.801(c) and 5.801(d) (Uniform Financial Reporting Standards (UFRS));

4. 24 CFR 902 (Public Housing Assessment System (PHAS));

5. 24 CFR 903.5 (Annual Plan Submission Deadline);

6. 24 CFR 905.10(i) (Capital Fund Formula; Limitation of Replacement Housing Funds to New Development);

7. 24 CFR 941.306 (Maximum Project);

8. 24 CFR 965.302 (Requirement for Energy Audits);

9. 24 CFR 982.54 (Administrative Plan);

10. 24 CFR 982.206 (Waiting List; Opening and Public Notice);

11. 24 CFR 982.401(d) (Housing Quality Standards; Space Requirements);

12. 24 CFR 982.503(b) (Waiver of payment standard; Establishing Payment Standard; Amounts);

13. 24 CFR 984.303 (Contract of Participation; Family Self-Sufficiency (FSS) Program; Extension of Contract) and 24 CFR 984.105 (Minimum Payment Size);

14. 24 CFR part 985 (Section 8 Management Assessment Program (SEMAP)); and

15. 24 CFR 990.145 (Dwelling Units with Approved Vacancies).

16. 24 CFR 1000.156 and 1000.158 (IHBG Moderate Design Requirements for Housing Development).

17. 24 CFR 1000.214 (Indian Housing Plan (IHP) Submission Deadline).

18. 24 CFR 1003.400(c) and Section I.C. of FY 2005 Indian Community Development Block Grants (ICDBG) Program Notice of Funding Availability (NOFA) (Grant Ceilings for ICDBG Imminent Threat Applications).

19. 24 CFR 1003.401 and Section I.C. of FY 2005 ICDBG NOFA (Application Requirements for ICDBG Imminent Threat Funds).

20. 24 CFR 1003.604 (ICDBG Citizen Participation Requirements). Both Federal Register notices described the regulatory requirement in detail and the period of suspension or alternative compliance date.

Granted By: Roy A. Bernardi, Deputy Secretary by the October 3, 2005 notice and the November 1, 2005 notice, both in the Federal Register. The March 13, 2006 notice was granted by Orlando J. Cabrera, Assistant Secretary, Public and Indian Housing, published in the Federal Register.

Date Granted: Please refer to Table 1. Table 1 identifies public housing agencies (PHAs) that have requested and were granted the regulatory waivers made available through the three Federal Register notices. The table identity's by number (as listed in the Federal Register notices) the regulatory waivers granted to each housing entity and identifies whether the housing entity was located in a Hurricane Katrina, Hurricane Rita or Hurricane Wilma disaster area.

Reason waived: The regulations waived in the October 3, 2005, and the November 1, 2005, and the March 13, 2006, Federal Register notices were waived to facilitate the delivery of safe and decent housing under HUD's Public Housing programs to families and individuals that were displaced from their housing as a result of the hurricanes.

Contacts: Reference the items numbers with the items identified in the aforementioned “Nature of Requirements” section for the following contacts:

• For requirements 1, 2 and 8, Patricia S. Arnaudo, Director, Public Housing Management and Occupancy Division, Office of Public Housing and Voucher Programs, Office of Public and Indian Housing, Department of Housing and Urban Development, 451 Seventh Street, SW., Room 4222, Washington, DC 20410-5000, telephone (202) 708-0744;

• For requirements 3, 4 and 15,Wanda F. Funk, Senior Advisor, Real Estate Assessment Center, Office of Public and Indian Housing, Department of Housing and Urban Development, 550 12th Street, SW., Suite 100, Washington, DC 20410-5000, telephone (202) 475-8736;

• For requirement 5, Merrie Nichols-Dixon, Division Director, Compliance and Coordination Division, Office of Field Operations, Office of Public and Indian Housing, Department of Housing and Urban Development, 451 Seventh Street, SW., Room 4112, Washington, DC 20410-5000, telephone (202) 708-4016;

• For requirements 6 and 7, Jeffery Riddel, Acting Director, Capital Fund Division, Public Housing Investments, Office of Public and Indian Housing, Department of Housing and Urban Development, 451 Seventh Street, SW., Room 4146, Washington, DC 20410-5000, telephone (202) 401-8812;

• For requirements 9-14, Alfred C. Jurison, Director, Housing Voucher Management and Operations Division, Office of Public Housing and Voucher Programs, Office of Public and Indian Housing, Department of Housing and Urban Development, 451 Seventh Street, SW., Room 4210, Washington, DC 20410-5000, telephone (202) 708-0477;

• For requirements 16-20, Deborah M. Lalancette, Director, Office of Grants Management, Office of Native American Programs, Office of Public and Indian Housing, Department of Housing and Urban Development, 1670 Broadway Denver, CO 80202, telephone (303) 675-1600.

Table 1
Housing authority code | Housing authority Name and Hurricane Disaster Area (K)(R) and (W) indicate whether the Housing Authority was located in hurricane Katrina, Rita, or Wilma disaster area | Regulatory waivers granted | Date acceptable notification received
FL005 | MIAMI DADE HOUSING AUTHORITY (W) | 1-9, 13-15 | 05/01/06
FL010 | HOUSING AUTHORITY OF FORT LAUDERDALE (W) | 4, 8, 9, 14 | 04/27/06
FL021 | PAHOKEE HOUSING AUTHORITY (W) | 4, 13, 14 | 04/03/06
FL116 | DANIA BEACH HOUSING AUTHORITY (W) | 4, 10, 14 | 04/06/06
LA003 | EAST BATON ROUGE PARISH HOUSING AUTHORITY (K) | 8 | 04/10/06
LA055 | HOUSING AUTHORITY OF THE CITY OF OPELOUSAS (K) | 1-8, 10, 11, 15 | 05/05/06
LA172 | CALCASIEU PARISH HOUSING DEPARTMENT (K) | 1-6, 9-14 | 04/14/06
LA178 | ST. MARTIN PARISH POLICE JURY (K) | 13 & 14 | 04/06/06
LA207 | TANGIPAHOA PARISH GOVERNMENT (K) | 1, 3, 5, 8-11, 14 | 04/14/06
LA219 | City of Baton Rouge Office of Community Development (K) | 12 & 14 | 04/14/06

[FR Doc. 06-8670 Filed 10-17-06; 8:45 am]

BILLING CODE 4210-67-P